DEPARTMENT OF JUSTICE

National Institute of Corrections

Advisory Board Meeting

Time and Date: 8 a.m. to 4 p.m. on Monday, January 24, 2005, 8 a.m. to 12 p.m. on Tuesday, January 25, 2005.

Place: The Holiday Inn on The Hill, 415 New Jersey Avenue, NW., Washington, DC 20001.

Status: Open.

Matters To Be Considered: Mentally Ill Offender; Assessing the Effectiveness of Faith-Based Organizations; Health and Human Services—Children & Families; Quarterly Report by Office of Justice Programs.

FOR FURTHER INFORMATION CONTACT: Contact Larry Solomon, Deputy Director, (202) 307-3106, ext. 44254.

Morris Thigpen,
Director.

[FR Doc. 05-452 Filed 1-10-05; 8:45 am]

BILLING CODE 4410-36-M